DEPARTMENT OF TRANSPORTATION

Maritime Administration

[Docket No. MARAD-2025-0067]

Request for Comments on the Renewal of a Previously Approved Collection: Uniform Financial Reporting Requirements

AGENCY: Maritime Administration, DOT.

ACTION: Notice.

SUMMARY: The Maritime Administration (MARAD) invites public comments on our intention to request approval from the Office of Management and Budget (OMB) to renew an information collection in accordance with the Paperwork Reduction Act of 1995. The proposed collection OMB 2133-0005 (Uniform Financial Reporting Requirements) is used to evaluate the financial condition of entities borrowing funds from or receiving financial benefits from MARAD. Since the last renewal, the public burden for this collection was updated to include mailing costs for respondents. We are required to publish this notice in the Federal Register to obtain comments from the public and affected agencies.

DATES: Comments must be submitted on or before June 30, 2025.

ADDRESSES: You may submit comments identified by Docket No. MARAD-2024-0067 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is reasonable for the Department's performance; (b) the accuracy of the estimated burden; (c) ways for the Department to enhance the quality, utility, and clarity of the information collection; and (d) ways that the burden could be modified without reducing the quality of the collected information. The agency will summarize and/or include your comments in the request for OMB's clearance of this information collection.

FOR FURTHER INFORMATION CONTACT: Steven S. Park, 202-366-1464, Office of Financial Approvals and Marine Insurance, Maritime Administration, U.S. Department of Transportation, 1200 New Jersey Avenue SE, Washington, DC 20590, Email: Steven.Park@dot.gov.

SUPPLEMENTARY INFORMATION:

Title: Uniform Financial Reporting Requirements.

OMB Control Number: 2133-0005.

Type of Request: Extension with change of a currently approved collection.

Abstract: The Uniform Financial Reporting Requirements are used as a basis for preparing and filing semi-annual and annual financial statements with the Maritime Administration. Regulations requiring financial reports to the Maritime Administration are authorized by Section 801 of the Merchant Marine Act, 1936. Financial reports are also required by regulation of purchasers of ships from MARAD on credit, companies chartering ships from MARAD, and of companies having Title XI guarantee obligations.

Respondents: Vessel owners and vessel managers.

Affected Public: Business or other for profit.

Estimated Number of Respondents: 50.

Estimated Number of Responses: 100.

Estimated Hours per Response: 9.5.

Annual Estimated Total Annual Burden Hours: 950.

Frequency of Response: Annually.

(Authority: The Paperwork Reduction Act of 1995; 44 U.S.C. Chapter 35, as amended; and 49 CFR 1.49.)

By Order of the Maritime Administration.
T. Mitchell Hudson, Jr.,
Secretary, Maritime Administration.

[FR Doc. 2025-07364 Filed 4-28-25; 8:45 am]

BILLING CODE 4910-81-P